DEPARTMENT OF DEFENSE

Office of the Secretary

Charter Renewal of Department of Defense Federal Advisory Committees

AGENCY: Department of Defense.

ACTION: Renewal of Federal Advisory Committee.

SUMMARY: The Department of Defense is publishing this notice to announce that it is renewing the charter for the Board of Regents, Uniformed Services University of the Health Sciences (“the Board”).

FOR FURTHER INFORMATION CONTACT: Jim Freeman, Advisory Committee Management Officer for the Department of Defense, 703-692-5952.

SUPPLEMENTARY INFORMATION: The Board's charter is being renewed pursuant to 10 U.S.C. 2113a and in accordance with the Federal Advisory Committee Act (FACA) of 1972 (5 U.S.C., Appendix, as amended) and 41 CFR 102-3.50(a). The Board's charter and contact information for the Board's Designated Federal Officer (DFO) can be found at https://www.facadatabase.gov/FACA/apex/FACAPublicAgencyNavigation.

The Board shall assist the Secretary of Defense in an advisory capacity in carrying out the Secretary's responsibility to conduct the business of the Uniformed Services University of the Health Sciences (“the University”). The Board shall provide advice and recommendations on academic and administrative matters critical to the full accreditation and successful operation of the University.

Pursuant to 10 U.S.C. 2113a(b), the Board shall be composed of 15 members, appointed or designated as follows: a. Nine persons outstanding in the fields of health care, higher education administration, or public policy, who shall be appointed from civilian life by the DoD Appointing Authorities; b. the Secretary of Defense, or his or her designee, who shall be an ex-officio member; c. the Surgeons General of the Uniformed Services, who shall be ex-officio members; and d. the President of the University, who shall be a non-voting, ex-officio member. As directed by 10 U.S.C. 2113a(c), the term of office of each member of the Board (other than ex-officio members) shall be six years except that: a. Any member appointed to fill a vacancy occurring before the expiration of the term for which his or her predecessor was appointed shall be appointed for the remainder of such term; and, b. any member whose term of office has expired shall continue to serve until his or her successor is appointed.

In accordance with 10 U.S.C. 2113a(d), one of the members of the Board (other than an ex-officio member) shall be designated as Chair by the DoD Appointing Authorities and shall be the presiding officer of the Board.

Board members who are not ex-officio members shall be appointed by the DoD Appointing Authorities, and their appointments will be renewed on an annual basis according to DoD policies and procedures. No member, unless approved by the DoD Appointing Authorities, may serve more than two consecutive terms of service on the Board, to include its subcommittees, or serve on more than two DoD federal advisory committees at one time.

Members of the Board who are not full-time or permanent part-time Federal officers or employees will be appointed as experts or consultants, pursuant to 5 U.S.C. 3109, to serve as special government employee members. Board members who are full-time or permanent part-time Federal officers or employees will be appointed, pursuant to 41 CFR 102-3.130(a), to serve as regular government employee members.

All members of the Board are appointed to provide advice on the basis of their best judgment without representing any particular point of view and in a manner that is free from conflict of interest.

Pursuant to 10 U.S.C. 2113a(e), Board members (other than ex-officio members), while attending conferences or meetings or while otherwise performing their duties as members, shall be entitled to receive compensation at a rate to be fixed by the Secretary of Defense. Each member is reimbursed for travel and per diem as it pertains to official business of the Board.

The public or interested organizations may submit written statements to the Board membership about the Board's mission and functions. Written statements may be submitted at any time or in response to the stated agenda of planned meeting of the Board. All written statements shall be submitted to the DFO for the Board, and this individual will ensure that the written statements are provided to the membership for their consideration.

Dated: March 22, 2019.
Aaron T. Siegel,
Alternate OSD Federal Register, Liaison Officer, Department of Defense.

[FR Doc. 2019-05906 Filed 3-27-19; 8:45 am]

BILLING CODE 5001-06-P